ENVIRONMENTAL PROTECTION AGENCY

[ER-FRL-6645-4]

Environmental Impact Statements; Notice of Availability

Responsible Agency: Office of Federal Activities, General Information (202) 564-7167 or http://www.epa.gov/compliance/nepa. Weekly receipt of Environmental Impact Statements filed November 3, 2003, through November 7, 2003, pursuant to 40 CFR 1506.9.

EIS No. 030507, FINAL EIS, AFS, AK, Greens Creek Tailings Disposal Project, Additional Dry Tailings Disposal Storage Facilities Construction, Authorization, Admiralty National Park Monument, Tongass National Forest, AK, Wait Period Ends: December 15, 2003, Contact: Jeff DeFreest (907) 790-7457. This document is available on the Internet at: http://www.greenscreekeis.com.

EIS No. 030508, DRAFT EIS, COE, ID, Emerald Creek Garnet Project, Proposal to Mine Garnet Reserves within the St. Maries River Floodplain near Fernwood, Walla Walla District, Issuance of Several Permits, Benewah and Shoshone Counties, ID, Comment Period Ends: December 29, 2003, Contact: Michael Doherty (208) 756-7237. This document is available on the Internet at: http://www.usace.army.mil.

EIS No. 030509, DRAFT EIS, FHW, UT, I-15, 31st Street in Ogden to 2700 North in Farr West, Reconstruction, Widening and Interchange Improvements, Funding and U.S. Army COE Section 404 Permit, Weber County, UT, Comment Period Ends: December 29, 2003, Contact: Sandra Garcia (801) 963-0182.

EIS No. 030510, DRAFT EIS, FHW, IA, IL, Interstate 74 Quad Cities Corridor Study, Improvements to the I-74 between 23rd Avenue in Moline, IL and 53rd Street in Davenport, IA, NPDES, Rivers and Harbors Act Section 9 and US Army COE Section 404 Permits, Scott County, IA and Rock Island County, IL., Comment Period Ends: January 9, 2004, Contact: Philip Barnes (515) 233-7300.

EIS No. 030511, FINAL EIS, FRC, OR, Bull Run Hydroelectric Project (FERC No.477-024), Proposal to Decommission the Bull Run Project and Remove Project Facilities including Marmot Dam, Little Sandy Diversion Dam and Roslyn Lake, and an Application to Surrender License, Sandy, Little Sandy, Bull Run Rivers, Town of Sandy, Clackamas County, OR, Wait Period Ends: December 15, 2003, Contact: Alan Mitchnick (202) 502-6074.

EIS No. 030512, DRAFT EIS, FRC, TX, Freeport Liquefied Natural Gas (LNG) Project, To Deliver Imported Liquefied Natural Gas to Shippers, Authorization of Site, Construction and Operation, Stratton Ridge Meter Station 2007, City of Freeport, Brazoria County, TX, Comment Period Ends: December 29, 2003, Contact: Thomas Russo (202) 502-8584. This document is available on the Internet at: http://www.ferc.gov.

EIS No. 030513, DRAFT EIS, NRC, IL, Quad Cities Nuclear Power Station Units 1 and 2, Supplement 16 to NUREG-1437, License Renewal, IL, Comment Period Ends: December 29, 2003, Contact: Louis L. Wheeler (301) 415-1444.

EIS No. 030514, DRAFT EIS, FHW, IL, Macomb Area Study, Construction from U.S. Route 67 (FAP-310) and Illinois Route 336 (FAP-315), City of Macomb, McDonough County, IL, Comment Period Ends: December 29, 2003, Contact: Norman R. Stoner (217) 492-4640.

EIS No. 030515, DRAFT EIS, BIA, OR, Wanapa Energy Center, Construction and Operation a New 1,200 Megawatt (MW) Natural Gas-Fired Electric Power Generating Facility, Confederated Tribes of the Umatilla Indian Reservation (CTUIR), in the City of Hermiston and the Port of Umatilla, OR, Comment Period Ends: December 29, 2003, Contact: Jerry Lauer (541) 278-3790. This document is available on the Internet at: http://www.efw/bpa.gov/cgi-bin/PSA/NEPA/SUMMARIES/WanapaEnergy.

EIS No. 030516, FINAL EIS, NOA, Atlantic Tunas, Swordfish, and Sharks Fishery Management Plan, To Prevent Overfishing and Rebuild Overfished Species, Update Essential Fish Habitat, Atlantic, Gulf of Mexico and Caribbean Sea, Wait Period Ends: December 15, 2003, Contact: Karyl Brewster-Geisz (301) 713-2347.

EIS No. 030517, FINAL EIS, FHW, IN, Indianapolis Northeast Corridor Transportation Connections Study, To Identify Actions to Reduce Expected Year 2025 Traffic Congestion and Enhance Mobility, Between I-69: from I-465 to IN-328; I-465: from U.S. 31 to I-70; I-70: from I-65 to I-465: IN-37 from I-69 to Allisonville Road (Noblesville), Marion and Hamilton Counties, IN, Wait Period Ends: December 21, 2003, Contact: Antony DeSimone (317) 226-5307.

Amended Notices

EIS No. 230442, DRAFT EIS, USA, HI, Transformation of the 2nd Brigade, 25th Infantry Division (Light) to a Stryker Brigade Combat Team in Hawai'i, Implementation, Honolulu and Hawai'i Counties, HI, Comment Period Ends: January 3, 2004, Contact: Cindy Barger (808) 438-4812. Revision of FR Notice Published on 10/03/03: CEQ Comment Period Ending 11/17/2003 has been Extended to 01/3/2004.

Dated: November 10, 2003.
Joseph C. Montgomery,
Director, NEPA Compliance Division, Office of Federal Activities.

[FR Doc. 03-28572 Filed 11-13-03; 8:45 am]

BILLING CODE 6560-50-P